DEPARTMENT OF HEALTH AND HUMAN SERVICES

Food and Drug Administration

[Docket No. FDA-2009-N-0247]

Food and Drug Administration Transparency Task Force; Reopening of Comment Period

AGENCY: Food and Drug Administration, HHS.

ACTION: Notice; reopening of comment period.

SUMMARY: The Food and Drug Administration (FDA) is reopening until November 6, 2009, the comment period for the notice of public meeting and request for comments that appeared in the Federal Register of June 3, 2009 (74 FR 26712). In the notice of public meeting and request for comments, FDA's Transparency Task Force requested comments on ways in which FDA can make useful and understandable information about FDA activities and decision making more readily available to the public. The agency is taking this action because the agency is planning a second public meeting this fall and is reopening the comment period to allow interested persons additional time to submit comments.

DATES: Submit written or electronic comments by November 6, 2009.

ADDRESSES: Submit written comments to the Division of Dockets Management (HFA-305), Food and Drug Administration, 5630 Fishers Lane, rm. 1061, Rockville, MD 20852. Submit electronic comments to http://www.regulations.gov. All such comments should be identified with the docket number found in brackets in the heading of this document.

FOR FURTHER INFORMATION CONTACT: Afia Asamoah, Office of the Commissioner, Food and Drug Administration, 10903 New Hampshire Ave., Bldg. 1, rm. 2208, Silver Spring, MD 20993, 301-796-4625, FAX: 301-847-3531, e-mail: Afia.Asamoah@fda.hhs.gov.

SUPPLEMENTARY INFORMATION: In the Federal Register of June 3, 2009 (74 FR 26712), FDA published a notice of public meeting and request for comments on ways in which FDA can make useful and understandable information about FDA activities and decisionmaking more readily available to the public, in a manner compatible with the agency's goal of protecting confidential information, as appropriate. Interested persons were given until August 7, 2009, to submit comments. The agency is planning to hold a second meeting in the fall of 2009 about these issues and is reopening the comment period until November 6, 2009. FDA has also established an online blog at http://fdatransparencyblog.fda.gov in which interested persons may provide feedback on specific topics. The blog is expected to run through November 2009.

Interested persons may submit written or electronic comments to the Division of Dockets Management (see ADDRESSES). Submit a single copy of electronic comments to http://www.reguations.gov or two paper copies of any mailed comments, except that individuals may submit one paper copy. Comments are to be identified with the docket number found in brackets in the heading of this document. Received comments may be seen in the Division of Dockets Management between 9 a.m. and 4 p.m., Monday through Friday.

Dated: August 12, 2009.
Jeffrey Shuren,
Associate Commissioner for Policy and Planning.

[FR Doc. E9-19778 Filed 8-17-09; 8:45 am]

BILLING CODE 4160-01-S